Title 3—

The President

Proclamation 10422 of July 8, 2022

Death of Abe Shinzo

By the President of the United States of America

A Proclamation

The longest serving Prime Minister in Japan's history, Abe Shinzo was a proud servant of the Japanese people and a faithful friend to the United States. He worked with American Presidents of both parties to deepen the Alliance between our nations and advance a common vision for a free and open Indo-Pacific. Even in the moment he was attacked and killed, he was engaged in the work of democracy, to which he dedicated his life.

As a mark of respect for the memory of Abe Shinzo, former Prime Minister of Japan, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, July 10, 2022. I also direct that the flag shall be flown at half-staff for the same length of time at all United States embassies, legations, consular offices, and other facilities abroad, including all military facilities and naval vessels and stations.

IN WITNESS WHEREOF, I have hereunto set my hand this eighth day of July, in the year of our Lord two thousand twenty-two, and of the Independence of the United States of America the two hundred and forty-seventh.

[FR Doc. 2022-15135

Filed 7-12-22; 11:15 am]

Billing code 3395-F2-P